DEPARTMENT OF ENERGY

Federal Energy Regulatory Commission

[Docket No. OR19-27-000]

Gunvor USA LLC v. Colonial Pipeline Company; Notice of Complaint

Take notice that on June 11, 2019, pursuant to sections 1(5), 6, 8, 9, 13, 15 and 16 of the Interstate Commerce Act,¹ section 1803 of the Energy Policy Act of 1992 (EPAct),² Rule 206 of the Rules of Practice and Procedures of the Federal Energy Regulatory Commission (Commission),³ and Rules 343.2 of the Commission's Procedural Rules Applicable to Oil Pipeline Proceedings,⁴ Gunvor USA LLC (Complainant) filed a formal complaint against Colonial Pipeline Company (Respondent) challenging the just and reasonableness of (1) Respondent's cost-based transportation rates in FERC Tariff No. 99.36.0 and predecessor tariffs; (2) Respondent's market-based rate authority and rates charged pursuant to that authority; and (3) Respondent's charges relating to product loss allocation and transmix, all as more fully explained in the complaint.

¹ 49 U.S.C. App. 1(5), 6, 8, 9, 13, 15 and 16.

² Public Law 102-486, 106 Stat. 2772 (1992).

³ 18 CFR 385.206 (2018).

⁴ 18 CFR 343.2 (2018).

Complainant certifies that copies of the complaint were served on the contacts for Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for electronic review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5 p.m. Eastern Time on July 11, 2019.

Dated: June 12, 2019.
Kimberly D. Bose,
Secretary.

[FR Doc. 2019-12817 Filed 6-17-19; 8:45 am]

BILLING CODE 6717-01-P